NUCLEAR REGULATORY COMMISSION

[Docket No. 50-309]

Maine Yankee Atomic Power Company; Maine Yankee Atomic Power Station; Exemption

1.0 Background

Maine Yankee Atomic Power Company (MYAPC or the licensee) is the holder of Facility Operating License No. DPR-36, which authorizes possession of Maine Yankee Atomic Power Station (MYAPS). The license provides, among other things, that the facility is subject to all rules, regulations, and orders of the U.S. Nuclear Regulatory Commission (NRC or the Commission) now or hereafter in effect. The facility is a pressurized-water reactor (PWR) located on the licensee's site in Lincoln County, Maine.

On August 7, 1997, the licensee submitted written certifications to the Commission that it had decided to permanently cease operations at MYAPS and that all fuel had been permanently removed from the reactor. In accordance with 10 CFR 50.82(a)(2), “Termination of license,” upon docketing of the certifications contained in the letter of August 7, 1997, the facility operating license no longer authorizes MYAPC to operate the reactor or to place fuel in the reactor vessel. The MYAPS spent nuclear fuel is currently being stored in the spent fuel pool, which is protected by a physical protection system meeting the requirements of 10 CFR 73.55, “Requirements for physical protection of licensed activities in nuclear power reactors against radiological sabotage,” with exemptions as previously issued by the NRC. To complete the plant site decommissioning process, the spent fuel will be removed from the spent fuel pool and transferred to an onsite independent spent fuel storage installation (ISFSI) for interim storage.

Pursuant to 10 CFR part 72, “Licensing Requirements for the Independent Storage of Spent Nuclear Fuel and High-Level Radioactive Waste,” an ISFSI may be licensed either under a general or a specific license. Under a general license, a licensee can construct and operate an ISFSI in accordance with the requirements of 10 CFR 72.212, “Conditions of general license issued under § 72.210[,“General license issued”],” without staff approval. Pursuant to 10 CFR 72.212(b)(5), a licensee must protect the spent fuel at the ISFSI against the design basis threat (DBT) of radiological sabotage in accordance with the same provisions and requirements as are set forth in the licensee's 10 CFR 73.55 physical security plan, with additional conditions and exceptions.

Alternatively, an ISFSI can be constructed under a 10 CFR part 72-specific license, which requires a licensee to develop a detailed security plan in accordance with 10 CFR 73.51, “Requirements for the physical protection of stored spent nuclear fuel and high-level radioactive waste.” The design objective of 10 CFR 73.51 is to protect against a loss of control of the facility that could be sufficient to cause radiation exposure exceeding the dose as described in 10 CFR 72.106, “Controlled area of an ISFSI or MRS [monitored retrievable storage].”

In an August 21, 2000, Federal Register notice (FRN) (65 FR 50606), the Commission clarified portions of 10 CFR Part 72, stating that the requirements of 10 CFR 72.106 apply to ISFSIs with either general or specific licenses. The offsite dose limits of 10 CFR 72.106 are defined such that any individual on or beyond the nearest boundary of the controlled area may not receive from any design basis accident the more limiting of a total effective dose equivalent of 0.05 Sv (5 rem) or the sum of the deep-dose equivalent and the committed dose equivalent to any individual organ or tissue of 0.5 Sv (50 rem).

2.0 Request

Pursuant to 10 CFR 72.212(b)(5), licensees who store their spent fuel under the provisions of 10 CFR part 72, Subpart K, “General License for Storage of Spent Fuel at Power Reactor Sites,” as MYAPC proposes to do, are required to “Protect the spent fuel against the design basis threat of radiological sabotage in accordance with the same provisions and requirements as are set forth * * *” in 10 CFR 73.55.

By letter dated January 4, 2001, as supplemented by letters dated March 12 and April 4, 2001, the licensee requested an exemption from the requirements of 10 CFR 72.212(b)(5) to “Protect the spent fuel [in the MYAPS ISFSI currently under construction] against the design basis threat of radiological sabotage, in accordance with the same provisions and requirements as are set forth * * *” in 10 CFR 73.55. MYAPC proposed alternative approaches to meet the provisions of portions of 10 CFR 73.55(b) through (h) related to the security organization, physical barriers, access requirements, detection aids, communications, and response requirements. By this same correspondence, the licensee also requested a license amendment that would revise its license to reference the revisions of the Physical Security Plan, Guard Training and Qualification Plan, and Safeguards Contingency Plan, provided in its supplemental letter dated March 12, 2001, and made available a copy of the MYAPC plans to assist the staff in its review of the exemption and amendment requests.

3.0 Discussion

Pursuant to 10 CFR 72.7, “Specific exemptions,” and 10 CFR 73.5, “Specific exemptions,” the Commission may, upon application by any interested person or upon its own initiative, grant exemptions from the requirements of the regulations that it determines are authorized by law and will not endanger life or property or the common defense and security and are otherwise in the public interest. Pursuant to 10 CFR 73.55(a), the Commission may authorize a licensee to provide measures for protection against radiological sabotage other than those specified in the regulations if the licensee demonstrates that the measures have the same high assurance objective as specified in 10 CFR 73.55(a) and that the overall level of system performance provides protection against radiological sabotage equivalent to that which could be provided by paragraphs (b) through (h) of 10 CFR 73.55.

In its submittal, MYAPC requested an exemption from the provisions of 10 CFR 72.212(b)(5) for protecting the spent fuel against the DBT of radiological sabotage. The staff concluded that MYAPC has not justified an exemption from the requirements of 10 CFR 72.212(b)(5), that licensees with general licenses protect the spent fuel against the DBT of radiological sabotage. The staff has reviewed the proposed MYAPC ISFSI and Fuel in Transit (FIT) Physical Protection Programs against the requirements of each section of 10 CFR 73.55 that 10 CFR 72.212(b)(5) references to determine whether the alternative measures that MYAPC proposed should be authorized pursuant to 10 CFR 73.55(a), or whether specific exemptions should be granted from the requirements of these regulations. As part of its review, the staff evaluated the offsite dose that would result from unimpeded access by the DBT of radiological sabotage without protracted loss of control of the facility. On the basis of MYAPC's plan in the ISFSI Physical Protection Program to maintain the boundary of its controlled area at a minimum of 300 meters from the dry cask storage installation and provisions in the ISFSI Physical Protection Program that provide the capability to summon off-site local law-enforcement agency response forces to preclude a protracted loss of control of the facility, the staff concluded that the DBT of radiological sabotage would result in an offsite dose well below the 10 CFR 72.106(b) limits. The staff therefore concluded that the alternative measures proposed by MYAPC are authorized pursuant to 10 CFR 73.55(a), with one exception. With regard to the requirements of 10 CFR 73.55(d)(5), the staff concluded that the measures proposed by MYAPC did not meet the criteria of 10 CFR 73.55(a) to be authorized as alternative measures. However, the staff concluded that pursuant to 10 CFR 72.7 and 10 CFR 73.5, the proposed alternatives to the requirements of 10 CFR 73.55(d)(5) that MYAPC requested could be granted as an exemption. A detailed discussion of the staff's evaluation is contained in the safety evaluation supporting these findings dated July 25, 2001.

4.0 Conclusion

Accordingly, the Commission has determined that, pursuant to 10 CFR 72.7 and 10 CFR 73.5, exemption from the requirements of 10 CFR 73.55(d)(5) related to access requirements is authorized by law, will not endanger life or property or the common defense and security, and are otherwise in the public interest.

Pursuant to 10 CFR 51.32, “Finding of no significant impact,” the Commission has previously determined that the granting of this exemption will not have a significant effect on the quality of the human environment (66 FR 31699, dated June 12, 2001).

This exemption is effective upon issuance.

Dated at Rockville, Maryland, this 25th day of July 2001.
For the Nuclear Regulatory Commission.
John A. Zwolinski,
Director, Division of Licensing Project Management, Office of Nuclear Reactor Regulation.

[FR Doc. 01-19024 Filed 7-30-01; 8:45 am]

BILLING CODE 7590-01-P